FEDERAL COMMUNICATIONS COMMISSION

[FR ID 131583]

Deletion of Item From March 16, 2023 Open Meeting

March 13, 2023.

The following item was adopted by the Commission on March 10, 2023 and deleted from the list of items scheduled for consideration at the Thursday, March 16, 2023, Open Meeting. The item was previously listed in the Commission's Sunshine Notice on Thursday, March 9, 2023.

5 | Engineering and technology | Title: Updating Equipment Testing Standards (ET Docket No. 21-363).
|  | Summary: The Commission will consider a Report and Order which would incorporate standards that are to be used in the testing of equipment to ensure compliance with FCC rules.

Federal Communications Commission.
Marlene Dortch,
Secretary.

[FR Doc. 2023-05405 Filed 3-15-23; 8:45 am]

BILLING CODE 6712-01-P